DEPARTMENT OF VETERANS AFFAIRS

[OMB Control No. 2900—New (21-0960a-c)]

Agency Request for Emergency Approval of an Information Collection

AGENCY: Department of Veterans Affairs.

ACTION: Notice and request for comments.

SUMMARY: In compliance with the Paperwork Reduction Act (PRA) of 1995 (44 U.S.C. 3501-3521), this notice announces that the United States Department of Veterans Affairs (VA) will submit to the Office of Management and Budget (OMB) the following emergency proposal for the collection of information under the PRA. The reason for the emergency clearance is to allow VA to collect information from private physicians in the form of making available standardized disability benefits questionnaires that private physicians can complete at the request and consent of individual veterans applying for VA disability benefits. The medical information provided by the private physicians will be used as supporting medical documentation for veterans' disability claims.

DATES: Comments should be submitted on or before June 29, 2010.

ADDRESSES: Submit written comments on the collection of information through http://www.Regulations.gov or to VA's OMB Desk Officer, OMB Human Resources and Housing Branch, New Executive Office Building, Room 10235, Washington, DC 20503 (202) 395-7316. Please refer to “OMB Control No. 2900-New (21-0960a-c)” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-New (21-0960a-c)” in any correspondence.

SUPPLEMENTARY INFORMATION: Titles:

a. Ischemic Heart Disease (IHD) Disability Benefits Questionnaire, VA Form 21-0960A.

b. Hairy Cell and Other B-Cell Leukemias Disability Benefits Questionnaire, VA Form 21-0960B.

c. Parkinson's Disease Disability Benefits Questionnaire, VA Form 21-0960C.

OMB Control Number: 2900—New (21-0960a-c).

Type of Review: New collection.

Abstract: In connection with The Agent Orange Act of 1991, Public Law No. 102-4, VA will publish a Final Rule establishing presumptive service connection for the following diseases based on herbicide exposure: Hairy cell leukemia and other chronic B-cell leukemias, Parkinson's disease, and ischemic heart disease. In order to more expeditiously process claims related to these three new presumptive diseases, VA has designed three corresponding Disability Benefits Questionnaires for use by private physicians at the request and consent of veterans applying for VA benefits. Veterans will have the option of providing these Disability Benefits Questionnaires to their private physicians for completion and submission to VA in lieu of scheduling a VA medical examination. Given the large number of claims VA anticipates for the three new presumptive diseases, the Disability Benefits Questionnaires will assist in expediting claims processing because veterans who choose to have the Disability Benefits Questionnaires completed by private physicians will avoid any VA examination scheduling delays.

Affected Public: Individuals or households.

Estimated Annual Burden:

a. Ischemic Heart Disease (IHD) Disability Benefits Questionnaire, VA Form 21-0960A—13,750.

b. Hairy Cell and Other B-Cell Leukemias Disability Benefits Questionnaire, VA Form 21-0960B—500.

c. Parkinson's Disease Disability Benefits Questionnaire, VA Form 21-0960C—1,250.

Estimated Average Burden per Respondent: 15 minutes.

Frequency of Response: On occasion.

Estimated Number of Respondents:

a. Ischemic Heart Disease (IHD) Disability Benefits Questionnaire, VA Form 21-0960A—55,000.

b. Hairy Cell and Other B-Cell Leukemias Disability Benefits Questionnaire, VA Form 21-0960B—2,000.

c. Parkinson's Disease Disability Benefits Questionnaire, VA Form 21-0960C—5,000.

Dated: June 10, 2010.
By direction of the Secretary.
Denise McLamb,
Program Analyst, Enterprise Records Service.

[FR Doc. 2010-14316 Filed 6-14-10; 8:45 am]

BILLING CODE 8320-01-P